DEPARTMENT OF TRANSPORTATION

Federal Railroad Administration

Agency Information Collection Activities

AGENCY: Federal Railroad Administration, DOT.

ACTION: Notice of OMB Approvals.

SUMMARY: In compliance with the Paperwork Reduction Act of 1995 (44 U.S.C. 3501 et seq.) and 5 CFR 1320.5(b), this notice announces that new information collections requirements (ICRs) listed below have been approved by the Office of Management and Budget (OMB). These new ICRs pertain to 49 CFR Parts 214, 217, 218, 225, 232, 238, 260, and 262. Additionally, FRA hereby announces that other ICRs listed below have been re-approved by the Office of Management and Budget (OMB). These ICRs pertain to Parts 214, 220, 224, 225, 229, 234, 236, 238, 240, and 244. The OMB approval numbers, titles, and expiration dates are included herein under supplementary information.

FOR FURTHER INFORMATION CONTACT: Mr. Robert Brogan, Office of Planning and Evaluation Division, RRS-21, Federal Railroad Administration, 1200 New Jersey Ave., SE., Mail Stop 17, Washington, DC 20590 (telephone: (202) 493-6292), or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to display OMB control numbers and inform respondents of their legal significance once OMB approval is obtained. The following new FRA information collections were approved within the past twelve months: (1) OMB No. 2130-0574, Confidential Close Call Reporting System Evaluation-Related Interview Data Collection (Forms FRA F 6180.125A; FRA F 6180.125B). The expiration date for this information collection is January 31, 2011. (2) OMB No. 2130-0577, Work Schedules and Sleep Patterns of Train and Engine Service Employees (Forms FRA F 6180.127; FRA F 6180.128). The expiration date for this information collection is April 30, 2011. (3) OMB No. 2130-0576, Passenger Train Emergency Systems (49 CFR 218 and 238) (Final Rule). The expiration date for this information collection is March 31, 2011. (4) OMB No. 2130-0035, Railroad Operating Rules (49 CFR Parts 217 and 218) (Final Rule) (Human Factors). The expiration date for this information collection is May 31, 2011. (5) OMB No. 2130-0575, Solicitation of Applications and Notice of Funds Availability—Intercity Rail Service Program. The expiration date for this information collection is August 31, 2011. (6) OMB No. 2130-0035, Railroad Operating Rules (Response to Petitions for Reconsideration (49 CFR 217 and 218). The expiration date for this information collection is August 31, 2011. (7) OMB No. 2130-0573, Implementation of Program for Capital Grants for Rail Line Relocation and Improvement Projects (49 CFR 262). The expiration date for this information collection is October 31, 2011. (8) OMB No. 2130-0579, FRA Emergency Order No. 26. The expiration date for this information collection is May 31, 2009 (9) OMB No. 2130-0580, Notice of Funds Availability and Solicitation of Applications for Grants under the Railroad Rehabilitation and Repair Grant Program. The expiration date for this information collection is June 30, 2009.

The following information collections were re-approved within the past year: (1.) OMB No. 2130-0524, Railroad Communications (49 CFR 220). The new expiration date for this information collection is January 31, 2011. (2.) OMB No. 2130-0500, Railroad Accident/Incident Reporting and Recordkeeping (49 CFR 225) (Forms FRA F 6180.39i/54/55/55a/56/57/78/97/98/99). The new expiration date for this information collection is February 28, 2011. (3.) OMB No. 2130-0557, Safety Integration Plans (49 CFR 244). The new expiration date for this information collection is March 31, 2011. (4.) OMB No. 2130-0564, Locomotive Crashworthiness (49 CFR 229 and 238). The new expiration date for this information collection is March 31, 2011. (5.) OMB No. 2130-0565, Safety Appliance Concern Recommendation; Safety Appliance Standards Guidance Checklist Forms (Forms FRA F 6180.4(a)-(q)). The new expiration date for this information collection is March 31, 2011. (6.) OMB No. 2130-0566, Reflectorization of Freight Rolling Stock (49 CFR 224) (Form FRA F 6180.113). The new expiration date for this information collection is June 30, 2011. (7.) OMB No. 2130-0533, Qualifications for Locomotive Engineers (49 CFR 240). The new expiration date for this information collection is August 31, 2011. (8.) OMB No. 2130-0552, Locomotive Cab Sanitation Standards (49 CFR 229). The new expiration date for this information collection is August 31, 2011. (9.) OMB No. 2130-0553, Positive Train Control (49 CFR 236). The new expiration date for this information collection is August 31, 2011. (10.) OMB No. 2130-0539, Roadway Worker Protection (Roadway Maintenance Machines) (Form FRA F 6180.119). The new expiration date for this information collection is August 31, 2011. (11.) OMB No. 2130-0004, Railroad Locomotive Safety Standards and Event Recorders (49 CFR 229) (Form FRA F 6180.49A). The new expiration date for this information collection is August 31, 2011.

Persons affected by the above referenced information collections are not required to respond to any collection of information unless it displays a currently valid OMB control number. These approvals by the Office of Management and Budget (OMB) certify that FRA has complied with the provisions of the Paperwork Reduction Act of 1995 (Pub L.104-13) and with 5 CFR 1320.5(b) by informing the public about OMB's approval of the information collection requirements of the above cited regulations, studies, grant programs, and forms.

Authority: 44 U.S.C. 3501-3520.

Issued in Washington, DC on December 22, 2008.
Kimberly Orben,
Director, Office of Financial Management, Federal Railroad Administration.

[FR Doc. E8-30891 Filed 12-29-08; 8:45 am]

BILLING CODE 4910-06-P